FEDERAL COMMUNICATIONS COMMISSION

[OMB 3060-0678; FRS 16916]

Information Collections Being Reviewed by the Federal Communications Commission

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written comments should be submitted on or before September 11, 2020. If you anticipate that you will be submitting comments, but find it difficult to do so within the period of time allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: The FCC may not conduct or sponsor a collection of information unless it displays a currently valid Office of Management and Budget (OMB) control number. No person shall be subject to any penalty for failing to comply with a collection of information subject to the PRA that does not display a valid OMB control number.

As part of its continuing effort to reduce paperwork burdens, and as required by the PRA of 1995 (44 U.S.C. 3501-3520), the FCC invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control No.: 3060-0678.

Title: Part 25 of the Commission's Rules Governing the Licensing of, and Spectrum Usage by, Satellite Network Stations and Space Station.

Form Nos.: FCC Form 312, FCC Form 312-EZ, FCC Form 312-R and Schedules A, B and S.

Type of Review: Revision of a currently approved collection.

Respondents: Business or other for-profit entities and Not-for-profit institutions.

Number of Respondents: 6,501 respondents; 6,550 responses.

Estimated Time per Response: 0.5-80 hours.

Frequency of Response: On occasion, one time, and annual reporting requirements; third-party disclosure requirement; recordkeeping requirement.

Obligation to Respond: Required to obtain or retain benefits. The Commission has statutory authority for the information collection requirements under 47 U.S.C. 154, 301, 302, 303, 307, 309, 310, 319, 332, 605, and 721.

Total Annual Burden: 42,854 hours.

Total Annual Cost: $16,863,793.

Privacy Act Impact Assessment: No impact(s).

Nature and Extent of Confidentiality: There is no need for confidentiality pertaining to the information collection requirements in this collection.

Needs and Uses: First, on September 27, 2019, the Commission released a Report and Order, FCC 19-93, in IB Docket No. 06-160, titled “Amendment of the Commission's Polices and Rules for Processing Applications in the Direct Broadcast Satellite Service” (DBS Licensing Report and Order). In this Report and Order, the Commission adopted a new licensing process for space stations in the Direct Broadcast Satellite Service (DBS). This new process allows applicants for DBS space station licenses to take advantage of a licensing process that parallels the Commission's streamlined Part 25 satellite licensing rules for geostationary orbit (GSO) space stations in the fixed-satellite service (FSS). The Commission limited the regulatory burdens borne by applicants, while promoting new opportunities for efficient use of orbital spacing and spectrum by DBS licensees. The Commission's action supports and encourages the increasing innovation in the DBS sector and helps to preserve U.S. leadership in space-based services and operations. This information collection will provide the Commission and the public with necessary information about this area of satellite operations. While this information collection represents an overall increase in the burden hours, the increase is due to an anticipated overall increase in number of applications as a result of additional applications being filed under the process adopted in the DBS Licensing Report and Order. This information collection serves the public interest by streamlining the collection of information and allowing the Commission to authorize DBS space stations under the new process established in the Report and Order.

Specifically, FCC 19-93 contains the new or modified information collection requirement listed below: Space station applications for GSO space stations operating in the frequencies of the International Telecommunication Union (ITU) Appendices 30 and 30A (incorporated by reference, see § 25.108) must include a statement that the proposed operation will take into account the applicable requirements of these Appendices of the ITU Radio Regulations and a demonstration that it is compatible with other U.S. ITU filings under Appendices 30 and 30A or, for any affected filings, a letter signed by the affected operator indicating that it consents to the new application.

Second, on March 3, 2020, the Commission released a Report and Order and Order of Proposed Modification, FCC 20-22, GN Docket No. 18-122, titled “Expanding Flexible Use of the 3.7 to 4.2 GHz Band.” In this Report and Order and Order of Proposed Modification, the Commission updated its rules by reforming the use of the 3.7-4.2 GHz band, also known as the C-Band. The new rules repack existing satellite operations into the upper 200 megahertz of the band (and reserve a 20 megahertz guard band), making a significant amount of spectrum—280 megahertz or more than half of the band—available for flexible use throughout the contiguous United States. The relevant rule revisions for purposes of this information collection are the addition of sections 25.138 and 25.147 of the Commission's rules. In updating this information collection, we are not accounting for any changes to the number of respondents, burden hours, and annual cost related to these rule revisions since the addition of sections 25.138 and 25.147 set forth rules for transition of operations from one frequency band to another.

Third, on April 24, 2020, the Commission released a Report and Order, FCC 20-54, IB Docket No. 18-313, titled “Mitigation of Orbital Debris in the New Space Age” (Orbital Debris Report and Order). In this Report and Order, the Commission updated its rules related to orbital debris mitigation, including application requirements. The new rules are designed to ensure that the Commission's actions concerning radio communications, including licensing U.S. spacecraft and granting access to the U.S. market for non-U.S. spacecraft, mitigate the growth of orbital debris, while at the same time not creating undue regulatory obstacles to new satellite ventures. The action will help to ensure that Commission decisions are consistent with the public interest in space remaining viable for future satellites and systems and the many services that those systems provide to the public. The rule revisions also provide additional detail to applicants on what information is expected under the Commission's rules, which can help to increase certainty in the application filing process. While this information collection represents an overall increase in the burden hours, the information collection serves the public interest by ensuring that the Commission and public have necessary information about satellite applicants' plans for mitigation of orbital debris.

Specifically, FCC 20-54 contains the new or modified information collection requirements listed below.

The following are new or modified information collection requirements contained in FCC 20-54 and applicable to non-streamlined space station applicants submitting orbital debris mitigation plans under part 25 of the Commission's rules:

(1) Existing application disclosure requirements have been revised to include specific metrics in several areas, including: Probability that the space stations will become a source of debris by collision with small debris and meteoroids that would cause loss of control and prevent disposal; probability of collision between any non-geostationary orbit (NGSO) space station and other large objects; and casualty risk associated with any individual spacecraft that will be disposed by atmospheric re-entry.

(2) Where relevant, applicants must disclose the following: Use of separate deployment devices, distinct from the space station launch vehicle, that may become a source of orbital debris; potential release of liquids that will persist in droplet form; and any planned proximity operations and debris generation that will or may result from the proposed operations, including any planned release of debris, the risk of accidental explosions, the risk of accidental collision, and measures taken to mitigate those risks.

(3) The existing application disclosure requirement to analyze potential collision risk associated with space station(s) orbits has been modified to specify that the disclosure identify characteristics of the space station(s)' orbits that may present a collision risk, including any planned and/or operational space stations in those orbits, and indicate what steps, if any, have been taken to coordinate with the other spacecraft or system, or what other measures the operator plans to use to avoid collision.

(4) Applicants for NGSO space stations that will transit through the orbits used by any inhabitable spacecraft, including the International Space Station, must disclose as part of the application the design and operational strategies, if any, that will be used to minimize the risk of collision and avoid posing any operational constraints to the inhabitable spacecraft.

(5) The application disclosure must include a certification that upon receipt of a space situational awareness conjunction warning, the operator will review and take all possible steps to assess the collision risk, and will mitigate the collision risk if necessary. As appropriate, steps to assess and mitigate the collision risk should include, but are not limited to: Contacting the operator of any active spacecraft involved in such a warning; sharing ephemeris data and other appropriate operational information with any such operator; and modifying space station attitude and/or operations.

(6) Applicants for NGSO space stations must describe the extent of satellite maneuverability.

(7) Applicants must address trackability of the space station(s). NGSO space station applicants must also disclose: (a) How the operator plans to identify the space station(s) following deployment and whether the space station tracking will be active or passive; (b) whether, prior to deployment the space station(s) will be registered with the 18th Space Control Squadron or successor entity; and (c) the extent to which the space station operator plans to share information regarding initial deployment, ephemeris, and/or planned maneuvers with the 18th Space Control Squadron or successor entity, other entities that engage in space situational awareness or space traffic management functions, and/or other operators.

(8) NGSO space station applicants must provide additional disclosures regarding spacecraft disposal, including, for some applicants, a demonstration that the probability of success of the chosen disposal method is 0.9 or greater for any individual space station, and for multi-satellite systems, a demonstration including additional information regarding efforts to achieve a higher probability of success

The following are new or modified information collection requirements contained in FCC 20-54 and applicable to those space station applicants qualifying for small satellite streamlined processing under part 25 of the Commission's rules:

(1) Applicants must certify that the probability that any individual space station will become a source of debris by collision with small debris or meteoroids that would cause loss of control and prevent disposal is 0.01 (1 in 100) or less.

(2) Applicants must certify that upon receipt of a space situational awareness conjunction warning, the licensee or operator will review and take all possible steps to assess the collision risk, and will mitigate the collision risk if necessary. As appropriate, steps to assess and mitigate the collision risk should include, but are not limited to: contacting the operator of any active spacecraft involved in such a warning; sharing ephemeris data and other appropriate operational information with any such operator; and modifying space station attitude and/or operations.

(3) If at any time during the space station(s)' mission or de-orbit phase the space station(s) will transit through the orbits used by any inhabitable spacecraft, including the International Space Station, applicants must provide a description of the design and operational strategies, if any, that will be used to minimize the risk of collision and avoid posing any operational constraints to the inhabitable spacecraft shall be furnished at the time of application.

(4) Applicants must provide a statement identifying characteristics of the space station(s)' orbits that may present a collision risk, including any planned and/or operational space stations in those orbits, and indicating what steps, if any, have been taken to coordinate with the other spacecraft or system, or what other measures the licensee plans to use to avoid collision. This requirement also applies to applicants for streamlined small spacecraft authorizations.

(5) Applicants must provide a statement disclosing how the licensee or operator plans to identify the space station(s) following deployment and whether space station tracking will be active or passive; whether the space station(s) will be registered with the 18th Space Control Squadron or successor entity prior to deployment; and the extent to which the space station licensee or operator plans to share information regarding initial deployment, ephemeris, and/or planned maneuvers with the 18th Space Control Squadron or successor entity, other entities that engage in space situational awareness or space traffic management functions, and/or other operators.

(6) If the applicant's space station(s) will undertake any planned proximity operations, the applicant must provide a statement disclosing those planned operations, and addressing debris generation that will or may result from the proposed operations, including any planned release of debris, the risk of accidental explosions, the risk of accidental collision, and measures taken to mitigate those risks.

(7) Applicants must provide a demonstration that the probability of success of disposal is 0.9 or greater for any individual space station. Space stations deployed to orbits in which atmospheric drag will, in the event of a space station failure, limit the lifetime of the space station to less than 25 years do not need to provide this additional demonstration.

Additionally, the following new or modified information collection requirements contained in FCC 20-54 are applicable to applicants requesting a modification of an existing licensee for a GSO space station to extend the space station license term under part 25 of the Commission's rules:

GSO space station licensees seeking a license term extension through a license modification application must provide a statement that includes the requested duration of the license extension; the estimated total remaining space station lifetime; a description of any single points of failure or other malfunctions, defects, or anomalies during the space station operation that could affect its ability to conduct end-of-life procedures as planned, and an assessment of the associated risk; a certification that remaining fuel reserves are adequate to complete de-orbit as planned; and a certification that telemetry, tracking, and command links are fully functional.

This collection is used by the Commission's staff in carrying out its statutory duties to regulate satellite communications in the public interest, as generally provided under 47 U.S.C. 154, 301, 302, 303, 307, 309, 310, 319, 332, 605, and 721. This collection is also used by staff in carrying out United States treaty obligations under the World Trade Organization (WTO) Basic Telecom Agreement. The information collected is used for the practical and necessary purposes of assessing the legal, technical, and other qualifications of applicants; determining compliance by applicants, licensees, and other grantees with Commission rules and the terms and conditions of their grants; and concluding whether, and under what conditions, grant of an authorization will serve the public interest, convenience, and necessity.

As technology advances and new spectrum is allocated for satellite use, applicants for satellite service will continue to submit the information required in 47 CFR part 25 of the Commission's rules. Without such information, the Commission could not determine whether to permit respondents to provide telecommunication services in the United States. Therefore, the Commission would be unable to fulfill its statutory responsibilities in accordance with the Communications Act of 1934, as amended, and the obligations imposed on parties to the WTO Basic Telecom Agreement.

Federal Communications Commission.
Marlene Dortch,
Secretary, Office of the Secretary.

[FR Doc. 2020-14964 Filed 7-10-20; 8:45 am]

BILLING CODE 6712-01-P